DEPARTMENT OF JUSTICE

Notice of Lodging Proposed Consent Order

In accordance with Departmental Policy, 28 CFR 50.7, notice is hereby given that a proposed consent order in United States, et al. v. Hubenka and LeClair Irrigation District, Civil No. 10-cv-0093-ABJ, was lodged with the United States District Court for the District of Wyoming on July 11, 2016.

This proposed Order Amending Memorandum Opinion Filed October 22, 2014, concerns a complaint filed by the United States against John Hubenka and LeClair Irrigation District under Sections 309(b) and (d) of the Clean Water Act, 33 U.S.C. 1319(b) and (d), to obtain injunctive relief from both Defendants and impose civil penalties on Mr. Hubenka for violating the Clean Water Act by discharging pollutants without a permit into waters of the United States. The Northern Arapaho Tribe and the Eastern Shoshone Tribe intervened as Plaintiffs. The proposed Order Amending Memorandum Opinion Filed October 22, 2014, resolves these allegations by, among other things, requiring the Defendants to restore the impacted areas and requiring Mr. Hubenka to pay a civil penalty.

The Department of Justice will accept written comments relating to this proposed Order Amending Memorandum Opinion Filed October 22, 2014, for thirty (30) days from the date of publication of this Notice. Please address comments to Alan D. Greenberg, Senior Attorney, United States Department of Justice, Environment and Natural Resources Division, Environmental Defense Section, 999 18th Street, Suite 370—South Terrace, Denver, CO 80202 and refer to United States, et al. v. Hubenka and LeClair Irrigation District, DJ # 90-5-1-1-18408.

The proposed Order Amending Memorandum Opinion Filed October 22, 2014, may be examined at the Clerk's Office, United States District Court for the District of Wyoming, 2120 Capitol Avenue, Room 2131, Cheyenne, WY 82001. In addition, the Master Settlement Agreement, including the proposed Order Amending Memorandum Opinion Filed October 22, 2014, may be examined electronically at http://www.justice.gov/enrd/Consent_Decrees.html.

Cherie L. Rogers,
Assistant Section Chief, Environmental Defense Section, Environment and Natural Resources Division.

[FR Doc. 2016-16772 Filed 7-14-16; 8:45 am]

BILLING CODE 4410-15-P